DEPARTMENT OF TRANSPORTATION

Federal Highway Administration

Environmental Impact Statement in Seattle, WA

AGENCY: Federal Highway Administration (FHWA), DOT.

ACTION: Notice of Intent.

SUMMARY: The FHWA is issuing this notice to advise the public, tribes, and agencies that an environmental impact statement will be prepared for a proposed transportation systems improvement project in Seattle, King County, Washington.

FOR FURTHER INFORMATION CONTACT: Stephen Boch, Major Project Oversight Manager, Federal Highway Administration, Jackson Federal Building, 915 2nd Avenue, Room 3142, Seattle, Washington, 98174; telephone: (206) 220-7356; and e-mail: Steve.Boch@fhwa.dot.gov. The FHWA Washington Division's Oversight Manager's regular office hours are between 8 a.m. and 4:30 p.m. (Pacific Time).

SUPPLEMENTARY INFORMATION: FHWA, Washington State Department of Transportation (WSDOT), the City of Seattle (City), and the King County Department of Transportation (KCDOT) will prepare an environmental impact statement to document the environmental consequences for proposed replacement of the Alaskan Way Viaduct and Alaskan Way Seawall located in downtown Seattle, King County, Washington. The intent of the project is to improve public safety by replacing the existing Alaskan Way Viaduct and Seawall with efficient transportation systems and facilities with improved earthquake resistance that provide for the efficient movement of people and goods in and through downtown Seattle.

The Alaskan Way Viaduct and Alaskan Way Seawall are both at the end of their useful life. Improvements or alternatives to both are required to protect public safety. Because these facilities are at risk of sudden and catastrophic failure in an earthquake, the replacement systems and facilities should be implemented as quickly as possible. Mobility and accessibility to and through downtown Seattle are vital to maintaining local, regional, and state-wide economic health. FHWA, WSDOT, the City, and KCDOT have identified the following underlying needs the project should address: improve public safety; provide efficient movement of people and goods; maintain or improve downtown Seattle, regional, the port and state economies; enhance Seattle's waterfront, downtown and adjacent neighborhoods as a place for people; and improve the health of the environment.

The project is evaluating all transportation modes and systems between the south Seattle city limits and N. 85th Street and Elliott Bay and Lake Washington. The nature and extent of transportation system improvements, and hence project termini, have not been determined at this time. The Alaskan Way Viaduct portion of SR 99 being focused on for replacement is approximately 2 miles long and is located between Royal Brougham Way and the Battery Street Tunnel. The project also includes the Alaskan Way Seawall, which supports the viaduct and surface streets, that extends from South Washington Street to Broad Street on Elliott Bay. Alternatives for environmental analysis have not been identified yet.

Letters soliciting comments on the purpose and need, potential alternatives, and scope of the EIS are being sent to the appropriate federal, state, and local agencies, and tribes. The project will also provide an opportunity for involvement to organizations, businesses, and citizens who have previously expressed or are known to have interest in this proposal. Agency and public scoping meetings will be held in September 2008 in Seattle, Washington. When determined, meeting details—including date, time, and location—will be posted on the project Web site: http://www.alaskanwayviaduct.org.

Comments and questions concerning this action and the EIS should be directed to FHWA at the address provided above.

(Catalog of Federal Domestic Assistance Program Number 20.205, Highway Planning and Construction. The regulations implementing Executive Order 12372 regarding intergovernmental consultation on Federal programs and activities apply to this program.)

Issued on: July 8, 2008.
Stephen P. Boch,
Major Project Oversight Manager, Seattle, Washington.

[FR Doc. E8-16187 Filed 7-15-08; 8:45 am]

BILLING CODE 4910-RY-P